DEPARTMENT OF AGRICULTURE

[Docket No. USDA-2024-0003]

Procedures for Quantification, Reporting, and Verification of Greenhouse Gas Emissions Associated With the Production of Domestic Agricultural Commodities Used as Biofuel Feedstocks

AGENCY: Office of the Chief Economist, U.S. Department of Agriculture.

ACTION: Request for information.

SUMMARY: The U.S. Department of Agriculture is seeking public input on procedures for the quantification, reporting, and verification of the effect of climate-smart farming practices on the greenhouse gas (GHG) net emissions estimates associated with the production of domestic (i.e., grown in the U.S.) agricultural commodities used as biofuel feedstocks. Agricultural management practices that mitigate GHG emissions and/or sequester soil carbon can be integrated into GHG analysis to reflect the differing GHG outcomes of feedstocks based on their production. However, many clean transportation fuel programs currently do not assign lower carbon intensity (CI) estimates (i.e., lower lifecycle GHG emissions of the fuel per unit of energy) to crops grown with climate-smart practices relative to the same crops grown with conventional farming practices. This Request for Information seeks information on practices that have the potential to mitigate GHG emissions and/or sequester carbon, and quantification, reporting, and verification approaches for the GHG outcomes associated with domestic agricultural commodities used as biofuel feedstocks.

DATES: Comments must be received by July 25, 2024, to be assured of consideration.

ADDRESSES: Interested persons are invited to submit comments concerning this notice by either of the following methods:

• Federal Rulemaking Portal: Go to https://www.regulations.gov and search for Docket No. USDA-2024-0003. Follow the instructions for submitting comments.

All comments submitted in response to this notice will be included in the record, will be made available to the public, and can be viewed at: https://www.regulations.gov. Please be advised that the identity of the individuals or entities submitting the comments will be made available to the public on the internet at the address provided above.

FOR FURTHER INFORMATION CONTACT: Contact William Hohenstein, Director of Office of Energy and Environmental Policy, at (202) 720-0450, or via email at sm.oce.oeep.CSABiofuels@usda.gov.

SUPPLEMENTARY INFORMATION: The U.S. Department of Agriculture (USDA) is considering a rulemaking to establish voluntary standards for quantifying, reporting, and verifying GHG outcomes for domestic agricultural commodities used as biofuel feedstocks and grown with practices that mitigate GHG emissions and/or sequester soil carbon. These standards would be available for consideration by entities that operate international, national, or state clean transportation fuel policies.

In establishing these standards, USDA may utilize its authorities under the Food, Conservation, and Energy Act of 2008, section 2709 (16 U.S.C. 3845: Environmental services markets). Section 2709 directs the Secretary to “establish technical guidelines that outline science-based methods to measure the environmental services benefits from conservation and land management activities in order to facilitate the participation of farmers, ranchers, and forest landowners in emerging environmental services markets.” It also directs the Secretary to “give priority to the establishment of guidelines related to farmer, rancher, and forest landowner participation in carbon markets.” It further directs the Secretary to establish verification guidelines, including “the role of third-parties in conducting independent verification of benefits produced for environmental services markets and other functions.” Because of the existence of clean transportation fuel programs, there is an existing environmental service market for biofuel feedstocks. The potential incorporation of feedstocks produced with climate-smart practices into these programs represents an emerging environmental service market opportunity for farmers.

Feedstock production contributes a significant percentage of the GHG emissions associated with crop-based biofuel production. However, clean transportation fuel programs typically base their feedstock production emissions estimates on average farming practices which include a range of both conventional and climate-smart farming practices. There is an opportunity to improve the empirical basis and verifiability of the effects of climate-smart farming practices on net GHG emissions, and to quantify net GHG emissions reductions more specifically to only those feedstocks grown with such practices. Standards that differentiate between crops grown with and without climate-smart farming practices could incentivize further adoption of climate-smart farming and corresponding reductions in GHG emissions.

A greater adoption of climate-smart farming practices could lower overall GHG emissions associated with biofuel production and provide other environmental benefits, such as improved water quality and soil health. Accurate quantification and verification are important to ensure that net GHG emissions reductions are real. Improving the ability to accurately quantify and verify the GHG outcomes of climate-smart farming practices can also provide additional benefits, including improved credibility and confidence in a variety of climate-smart markets.

The information received in response to this notice will inform a potential USDA rulemaking on these topics as well as future improvements to quantification methodologies.

Questions for Commenters

Qualifying Practices

(1) Which domestic biofuel feedstocks should USDA consider including in its analysis to quantify the GHG emissions associated with climate smart farming practices? USDA is considering corn, soybeans, sorghum, and spring canola as these are the dominant biofuel feedstock crops in the United States. USDA is also considering winter oilseed crops (brassica carinata, camelina, pennycress, and winter canola). Are there other potential biofuel feedstocks, including crops, crop residues and biomaterials, that USDA should analyze?

(2) Which farming practices should USDA consider including in its analysis to quantify the GHG emissions outcomes for biofuel feedstocks? Practices that can reduce the greenhouse gas emissions associated with specific feedstocks and/or increase soil carbon sequestration may include, but are not limited to: conservation tillage, no-till, planting of cover crops, incorporation of buffer strips, and nitrogen management (e.g., applying fertilizer in the right source, rate, place and time, including using enhanced efficiency fertilizers, biological fertilizers or amendments, or manure). Should practices (and crops) that reduce water consumption be considered, taking into account the energy needed to transport water for irrigation? Should the farming practices under consideration vary by feedstock and/or by location? If so, how and why?

(3) For practices identified in question 2, how should these practices be defined? What parameters should USDA specify so that the GHG outcomes (as opposed to other environmental and economic benefits) resulting from the practices can be quantified, reported, and verified?

(4) For practices identified in question 2, to what extent do variations in practice implementation affect the overall GHG benefits of the practice (e.g., the date at which cover crops are harvested or terminated)? What implementation strategies maximize the GHG benefits of these climate-smart agriculture practices?

Quantification

(5) What scientific data, information, and analysis should USDA consider when quantifying the greenhouse gas emissions outcomes of climate-smart agricultural practices and conventional farming practices? What additional analysis should USDA prioritize to improve the accuracy and reliability of the GHG estimates? How should USDA account for uncertainty in scientific data? How should USDA analysis be updated over time?

(6) Given the degree of geographic variability associated with each practice, on what geographic scale should USDA quantify the GHG net emissions of each practice (e.g., farm-level, county-level, state, regional, national)? What are the pros and cons of each scale? How should differences in local and regional conditions be addressed?

(7) How should USDA estimate the GHG emissions and soil carbon fluxes of baseline crop production?

(8) Where models can be used to quantify changes in greenhouse gas emissions and sinks associated with climate smart agricultural practices, which model(s) are most appropriate for quantifying the greenhouse gas effects of these practices? What are the tradeoffs of different modeling approaches for accurately representing carbon, methane, and nitrous oxide fluxes under climate smart agricultural practices?

(9) How should net greenhouse gas emissions, including soil carbon sequestration, be attributed among crops produced in a rotation, for example crops grown in rotation with one or multiple cover crops?

(10) To what extent do interactions between practices either enhance or reduce the GHG emissions outcomes of each practice? Where multiple practices are implemented in combination, should the impacts of these practices be measured individually or collectively?

(11) How should the GHG emissions of nutrient management practices (e.g., applying fertilizer according to the “4Rs” of nutrient management—right place, right source, right time, and right rate; variable rate technology; enhanced efficiency fertilizer application; manure application) be quantified? What empirical data exist to inform the quantification? What factors should USDA consider when quantifying the GHG emissions outcomes of these practices?

Soil Carbon

(12) How should the GHG outcomes of soil management practices that can increase carbon sequestration or reduce carbon dioxide emissions (e.g., no-till, cover crops) be quantified? What empirical data exist to inform the quantification? Over what time scale should practices that sequester soil carbon be implemented to achieve measurable and durable GHG benefits?

(13) For practices that can increase soil carbon sequestration or reduce carbon dioxide emissions, how should the duration and any interruptions of practice (e.g., length of time practice is continued, whether the practice is put in place continually or with interruptions) be considered when assessing the effects on soil carbon sequestration?

(14) How should the baseline rates of change in soil carbon and uncertainty around the greenhouse gas benefits of these practices be characterized? Does this uncertainty and variability depend on the type or longevity/permanence of the practice?

Verification and Recordkeeping

(15) What records, documentation, and data are necessary to provide sufficient evidence to verify practice adoption and maintenance? What records are typically maintained, why, and by whom? Where possible, please be specific to recommended practices (e.g., refer to practices identified in question two).

(16) How can market participants leverage remote sensing and/or other emergent technologies as an option to verify practice adoption and maintenance?

(17) Are there existing reporting structures that can potentially be leveraged?

(18) Should on-site audits be used to verify practice adoption and maintenance and if so, to what extent, and on what frequency?

(19) If only a sample of farm/fields are audited on-site, what sampling methodology should be used to determine the sample of farms selected for an on-site audit, and how can the sampling methodology ensure that selected farms are representative across geographies, crops, and other factors?

(20) What system(s) should be used to trace feedstocks throughout biofuel feedstock supply chains (e.g., mass balance, book and claim, identity preservation, geolocation of fields where practices are adopted)? What data do these tracking systems need to collect? What are the pros and cons of these traceability systems? How should this information be verified?

Verifier Qualifications/Accreditation Requirements

(21) How could USDA best utilize independent third-parties (i.e., unrelated party certifiers) to bolster verification of practice adoption and maintenance and/or supply chain traceability? What standards or processes should be in place to prevent conflicts of interest between verifiers and the entities they oversee?

(22) What qualifications should independent third-party verifiers of practice adoption and/or supply chain traceability possess?

(23) What independent third-party verification systems currently exist that may be relevant for use in the context of verifying climate-smart agricultural practices (as identified under questions 1 and 2) and/or biofuel supply chains?

(24) How should oversight of verifiers be performed? What procedures should be in place if an independent third-party verifier fails to conform to verification and audit requirements, or otherwise conducts verification inappropriately?

(25) What procedures should be in place to prevent potential inaccurate or fraudulent claims regarding feedstock production practices or chain of custody claims, how should monitoring occur to identify such inaccurate claims, and what should the remedy be when such inaccurate claims are discovered?

(26) What preemptive measures are appropriate to guard program integrity against both potential intentional fraud and inadvertent reversal or nonaccrual of credited GHG emissions benefits?

William Hohenstein,
Director, Office of Energy and Environmental Policy.

[FR Doc. 2024-14126 Filed 6-26-24; 8:45 am]

BILLING CODE 3410-GL-P